DEPARTMENT OF TRANSPORTATION

National Highway Traffic Safety Administration

[Docket No. NHTSA-2004-19738]

Decision That Certain Nonconforming Motor Vehicles Are Eligible for Importation

AGENCY: National Highway Traffic Safety Administration (NHTSA), DOT.

ACTION: Notice of decision by NHTSA that certain nonconforming motor vehicles are eligible for importation.

SUMMARY: This document announces decisions by NHTSA that certain motor vehicles not originally manufactured to comply with all applicable Federal motor vehicle safety standards are eligible for importation into the United States because they are substantially similar to vehicles originally manufactured for importation into and/or sale in the United States and certified by their manufacturers as complying with the safety standards, and they are capable of being readily altered to conform to the standards.

DATES: These decisions became effective on the dates specified in Annex A.

FOR FURTHER INFORMATION CONTACT: Coleman Sachs, Office of Vehicle Safety Compliance, NHTSA ((202) 366-3151).

SUPPLEMENTARY INFORMATION:

Background

Under 49 U.S.C. 30141(a)(1)(A), a motor vehicle that was not originally manufactured to conform to all applicable Federal motor vehicle safety standards shall be refused admission into the United States unless NHTSA has decided that the motor vehicle is substantially similar to a motor vehicle originally manufactured for importation into and sale in the United States, certified under 49 U.S.C. 30115, and of the same model year as the model of the motor vehicle to be compared, and is capable of being readily altered to conform to all applicable Federal motor vehicle safety standards.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

NHTSA received petitions from registered importers to decide whether the vehicles listed in Annex A to this notice are eligible for importation into the United States. To afford an opportunity for public comment, NHTSA published notice of these petitions as specified in Annex A. The reader is referred to those notices for a thorough description of the petitions. No substantive comments were received in response to these notices. Based on its review of the information submitted by the petitioners, NHTSA has decided to grant the petitions.

Vehicle Eligibility Number for Subject Vehicles

The importer of a vehicle admissible under any final decision must indicate on the form HS-7 accompanying entry the appropriate vehicle eligibility number indicating that the vehicle is eligible for entry. Vehicle eligibility numbers assigned to vehicles admissible under this decision are specified in Annex A.

Final Decision

Accordingly, on the basis of the foregoing, NHTSA has decided that each motor vehicle listed in Annex A to this notice, which was not originally manufactured to comply with all applicable Federal motor vehicle safety standards, is substantially similar to a motor vehicle manufactured for importation into and/or sale in the United States, and certified under 49 U.S.C. 30115, as specified in Annex A, and is capable of being readily altered to conform to all applicable Federal motor vehicle safety standards.

Authority: 49 U.S.C. 30141(a)(1)(A) and (b)(1); 49 CFR 593.8; delegations of authority at 49 CFR 1.50 and 501.8.

Claude H. Harris,
Director, Office of Vehicle Safety Compliance.

Annex A—Nonconforming Motor Vehicles Decided To Be Eligible for Importation

1. Docket No. NHTSA-2004-17647

Nonconforming Vehicles: 2001-2002 Mercedes Benz C-320 (203) Passenger Cars.

Substantially Similar U.S.-Certified Vehicles: 2001-2002 Mercedes Benz C-320 (203) Passenger Cars.

Notice of Petition Published at: 69 FR 24705 (May 4, 2004).

Vehicle Eligibility Number: VSP-441 (effective date June 15, 2004).

2. Docket No. NHTSA-2004-17766

Nonconforming Vehicles: 2002-2004 Mercedes Benz S-Class (220) Passenger Cars.

Substantially Similar U.S.-Certified Vehicles: 2002-2004 Mercedes Benz S-Class (220) Passenger Cars.

Notice of Petition Published at: 69 FR 29164 (May 20, 2004).

Vehicle Eligibility Number: VSP-442 (effective date June 28, 2004).

3. Docket No. NHTSA-2004-18610

Nonconforming Vehicles: 1999 Cagiva Gran Canyon 900 Motorcycles.

Substantially Similar U.S.-Certified Vehicles: 1999 Cagiva Gran Canyon 900 Motorcycles.

Notice of Petition Published at: 69 FR 45110 (July 28, 2004).

Vehicle Eligibility Number: VSP-444 (effective date September 2, 2004).

4. Docket No. NHTSA-2004-18647

Nonconforming Vehicles: 2004 Ferrari 360 Series Passenger Cars.

Substantially Similar U.S.-Certified Vehicles: 2004 360 Ferrari Series Passenger Cars.

Notice of Petition Published at: 69 FR 51143 (August 17, 2004).

Vehicle Eligibility Number: VSP-446 (effective date September 24, 2004).

5. Docket No. NHTSA-2004-18782

Nonconforming Vehicles: 2002 Honda CR-V Multipurpose Passenger Vehicles.

Substantially Similar U.S.-Certified Vehicles: 2002 Honda CR-V Multipurpose Passenger Vehicles.

Notice of Petition Published at: 69 FR 52744 (August 27, 2004).

Vehicle Eligibility Number: VSP-447 (effective date October 5, 2004).

6. Docket No. NHTSA-2004-18945

Nonconforming Vehicles: 2000 Cadillac Deville Passenger Cars (Manufactured 8/1/1999-12/31/2000).

Substantially Similar U.S.-Certified Vehicles: 2000 Cadillac Deville Passenger Cars (Manufactured 8/1/1999-12/31/2000).

Notice of Petition Published at: 69 FR 54342 (September 8, 2004).

Vehicle Eligibility Number: VSP-448 (effective date October 14, 2004).

7. Docket No. NHTSA-2004-18946

Nonconforming Vehicles: 1998 Toyota 4-Runner Multipurpose Passenger Vehicles.

Substantially Similar U.S.-Certified Vehicles: 1998 Toyota 4-Runner Multipurpose Passenger Vehicles.

Notice of Petition Published at: 69 FR 54344 (September 8, 2004).

Vehicle Eligibility Number: VSP-449 (effective date October 14, 2004).

8. Docket No. NHTSA-2004-18947

Nonconforming Vehicles: 2003-2004 BMW 5 Series Passenger Vehicles.

Substantially Similar U.S.-Certified Vehicles: 2003-2004 BMW 5 Series Passenger Vehicles.

Notice of Petition Published at: 69 FR 54717 (September 9, 2004).

Vehicle Eligibility Number: VSP-450 (effective date October 14, 2004).

9. Docket No. NHTSA-2004-18849

Nonconforming Vehicles: 1994-1997 Honda Accord, Sedan & Wagon, right hand drive (RHD) Passenger Cars.

Substantially Similar U.S.-Certified Vehicles: 1994-1997 Honda Accord, Sedan & Wagon, left hand drive (LHD) Passenger Cars.

Notice of Petition Published at: 69 FR 49944 (August 12, 2004).

Vehicle Eligibility Number: VSP-451 (effective date October 29, 2004).

10. Docket No. NHTSA-2004-19120

Nonconforming Vehicles: 2001 Ducati 900 Motorcycles.

Substantially Similar U.S.-Certified Vehicles: 2001 Ducati 900 Motorcycles.

Notice of Petition Published at: 69 FR 57132 (September 23, 2004).

Vehicle Eligibility Number: VSP-452 (effective date October 29, 2004).

11. Docket No. NHTSA-2004-19121

Nonconforming Vehicles: 2000 BMW R1150 GS Motorcycles.

Substantially Similar U.S.-Certified Vehicles: 2000 BMW R1150 GS Motorcycles.

Notice of Petition Published at: 69 FR 57133 (September 23, 2004).

Vehicle Eligibility Number: VSP-453 (effective date October 29, 2004).

12. Docket No. NHTSA-2004-19291

Nonconforming Vehicles: 1993 Mercedes Benz 190E Passenger Cars.

Substantially Similar U.S.-Certified Vehicles: 1993 Mercedes Benz 190E Passenger Cars.

Notice of Petition Published at: 69 FR 60931 (October 13, 2004).

Vehicle Eligibility Number: VSP-454 (effective date November 15, 2004).

13. Docket No. NHTSA-2004-19290

Nonconforming Vehicles: 2004 Rolls Royce Phantom Passenger Cars.

Substantially Similar U.S.-Certified Vehicles: 2004 Rolls Royce Phantom Passenger Cars.

Notice of Petition Published at: 69 FR 60932 (October 13, 2004).

Vehicle Eligibility Number: VSP-455 (effective date November 17, 2004).

[FR Doc. 04-26984 Filed 12-7-04; 8:45 am]

BILLING CODE 4910-59-P